DEPARTMENT OF LABOR

Employment and Training Administration

[TA-W-56,517]

Shirley's Sewvac, Hermiston, OR; Notice of Termination of Investigation

Pursuant to section 221 of the Trade Act of 1974, as amended, an investigation was initiated on October 12, 2004, in response to a worker petition filed by a company official on behalf of workers at Shirley's SewVac, Hermiston, Oregon.

The petitioner has requested that the petition be withdrawn. Consequently, the investigation has been terminated.

Signed in Washington, DC this 17th day of February, 2005.
Elliott S. Kushner,
Certifying Officer, Division of Trade Adjustment Assistance.

[FR Doc. E5-1142 Filed 3-15-05; 8:45 am]

BILLING CODE 4510-30-P